DEPARTMENT OF THE INTERIOR

National Park Service

[NPS-WASO-NAGPRA-NPS0037161; PPWOCRADN0-PCU00RP14.R50000]

Notice of Inventory Completion: Alabama Department of Archives and History, Montgomery, AL

AGENCY: National Park Service, Interior.

ACTION: Notice.

SUMMARY: In accordance with the Native American Graves Protection and Repatriation Act (NAGPRA), the Alabama Department of Archives and History (ADAH) has completed an inventory of human remains and associated funerary objects and has determined that there is a cultural affiliation between the human remains and associated funerary objects and Indian Tribes or Native Hawaiian organizations in this notice. The human remains and associated funerary objects were removed from Elmore County, Covington County, Montgomery County, and Russell County, AL.

DATES: Repatriation of the human remains and associated funerary objects in this notice may occur on or after February 2, 2024.

ADDRESSES: Kellie Bowers, NAGPRA Coordinator, the Alabama Department of Archives and History, P.O. Box 300100, 624 Washington Avenue, Montgomery, AL 36130, telephone (334) 353-4731, email nagpra.adah@archives.alabama.gov.

SUPPLEMENTARY INFORMATION: This notice is published as part of the National Park Service's administrative responsibilities under NAGPRA. The determinations in this notice are the sole responsibility of the Alabama Department of Archives and History. The National Park Service is not responsible for the determinations in this notice. Additional information on the determinations in this notice, including the results of consultation, can be found in the inventory or related records held by the Alabama Department of Archives and History.

Description

Elmore County, AL

On an unknown date, human remains representing, at minimum, one individual were removed from the Taskigi site by members of the Alabama Anthropological Society. Between 1916 and 1951, the human remains were donated to the ADAH (Human Remains Identification Number 4104). No associated funerary objects are present.

On an unknown date, human remains representing, at minimum, one individual were removed from the Taskigi site by members of the Alabama Anthropological Society. Between 1916 and 1951, the human remains were donated to the ADAH (Human Remains Identification Number 4113). No associated funerary objects are present.

On an unknown date, human remains representing, at minimum, one individual were removed from the Taskigi site by members of the Alabama Anthropological Society. Between 1916 and 1951, the human remains were donated to the ADAH (Human Remains Identification Number 4120). The 2,112 associated funerary objects are 2,111 glass trade beads and one mirror.

On an unknown date, human remains representing, at minimum, one individual were removed from the site of Ft. Toulouse/Ft. Jackson by the Alabama Historical Commission (AHC) and transferred to the ADAH in the late 1970s or early 1980s (Human Remains Identification Number 4090). Associated funerary objects were discovered in the collections of the AHC as part of research prior to NAGPRA consultation and were transferred to the ADAH on August 17, 2022. The 1,456 associated funerary objects are 52 flakes/stone debitage, 48 miscellaneous stones, one stone celt, 1,354 sand and shell tempered ceramic sherds representing a minimum of 17 vessels, and one lot of faunal remains.

On an unknown date, human remains representing, at minimum, one individual were removed from the site of Coosada/Koasati by members of the Alabama Anthropological Society. Between 1916 and 1951, the human remains were donated to the ADAH (Human Remains Identification Number 4121). No associated funerary objects are present.

Covington County

At an unknown date, human remains representing, at minimum, one individual were removed from the site of Searight by members of the Alabama Anthropological Society. Between 1916 and 1951, the human remains were donated to the ADAH (Human Remains Identification Number 4114). No associated funerary objects are present.

Montgomery County

At an unknown date, human remains representing, at minimum, one individual were removed from the site of Ashley Place/Catoma Creek by members of the Alabama Anthropological Society. Between 1916 and 1951, the human remains were donated to the ADAH (Human Remains Identification Number 4111). No associated funerary objects are present.

Russell County

At an unknown date, human remains representing, at minimum, one individual were removed from the site of Girard by members of the Alabama Anthropological Society. On February 25, 1916, the human remains were donated to the ADAH (Human Remains Identification Number 4123). No associated funerary objects are present.

Cultural Affiliation

The human remains in this notice are connected to one or more identifiable earlier groups, tribes, peoples, or cultures. There is a relationship of shared group identity between the identifiable earlier groups, tribes, peoples, or cultures and one or more Indian Tribes or Native Hawaiian organizations. The following types of information were used to reasonably trace the relationship: archeological information, geographical information, historical information, kinship, and linguistics.

Determinations

Pursuant to NAGPRA and its implementing regulations, and after consultation with the appropriate Indian Tribes and Native Hawaiian organizations, the Alabama Department of Archives and History has determined that:

• The human remains described in this notice represent the physical remains of eight individuals of Native American ancestry.

• The 3,568 objects described in this notice are reasonably believed to have been placed with or near individual human remains at the time of death or later as part of the death rite or ceremony.

• There is a relationship of shared group identity that can be reasonably traced between the human remains and associated funerary objects described in this notice and the Alabama-Coushatta Tribe of Texas; Alabama-Quassarte Tribal Town; Coushatta Tribe of Louisiana; Kialegee Tribal Town; Miccosukee Tribe of Indians; Poarch Band of Creek Indians; Seminole Tribe of Florida; The Muscogee (Creek) Nation; The Seminole Nation of Oklahoma; and the Thlopthlocco Tribal Town.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after February 2, 2024. If competing requests for repatriation are received, the Alabama Department of Archives and History must determine the most appropriate requestor prior to repatriation. Requests for joint repatriation of the human remains are considered a single request and not competing requests. The Alabama Department of Archives and History is responsible for sending a copy of this notice to the Indian Tribes and Native Hawaiian organizations identified in this notice.

Authority: Native American Graves Protection and Repatriation Act, 25 U.S.C. 3003, and the implementing regulations, 43 CFR 10.9, 10.10, and 10.14.

Dated: December 20, 2023.
Melanie O'Brien,
Manager, National NAGPRA Program.

[FR Doc. 2023-28916 Filed 1-2-24; 8:45 am]

BILLING CODE 4312-52-P